DEPARTMENT OF DEFENSE

Defense Acquisition Regulations System

48 CFR Part 208

Defense Federal Acquisition Regulation Supplement; Technical Amendment

AGENCY: Defense Acquisition Regulations System, Department of Defense (DoD).

ACTION: Final rule.

SUMMARY: DoD is making a technical amendment to the Defense Federal Acquisition Regulation Supplement (DFARS) to update a reference number within the DFARS text.

DATES: Effective Date: December 1, 2006.

FOR FURTHER INFORMATION CONTACT: Ms. Michele Peterson, Defense Acquisition Regulations System, OUSD(AT&L)DPAP(DARS), IMD 3C132, 3062 Defense Pentagon, Washington, DC 20301-3062. Telephone (703) 602-0311; facsimile (703) 602-0350.

SUPPLEMENTARY INFORMATION: This final rule amends DFARS 208.7003-2(a) by updating a reference to a section of the Federal Acquisition Regulation.

List of Subjects in 48 CFR Part 208

Government procurement.

Michele P. Peterson,
Editor, Defense Acquisition Regulations System.

Therefore, 48 CFR part 208 is amended as follows:

PART 208—REQUIRED SOURCES OF SUPPLIES AND SERVICES

1. The authority citation for 48 CFR part 208 continues to read as follows:

Authority: 41 U.S.C. 421 and 48 CFR Chapter 1.

208.7003-2 [Amended]

2. Section 208.7003-2 is amended in paragraph (a) by removing “8.001” and adding in its place “8.002”.

[FR Doc. E6-20397 Filed 11-30-06; 8:45 am]

BILLING CODE 5001-08-P